DEPARTMENT OF LABOR

Employment and Training Administration

[TA-W-38,192 and NAFTA-4187]

Metal Powder Products Company Logan, OH; Notice of Negative Determination Regarding Application for Reconsideration

By application dated December 13, 2000, the International Association of Machinists and Aerospace Workers, Local Lodge 55, District 28, requested administrative reconsideration of the Department's negative determination regarding eligibility to apply for Trade Adjustment Assistance (TAA) and North American Free Trade Agreement-Transitional Adjustment Assistance (NAFTA-TAA), applicable to workers and former workers of the subject firm. The denial notices were signed November 30, 2000, and published in the Federal Register on December 21, 2000; the TAA at (65 FR 80457) and the NAFTA-TAA at (65 FR 80458).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of TAA for workers producing powdered metal parts for industrial applications at Metal Powder Products Company, Logan, Ohio, was based on the finding that the “contributed importantly” criterion of the group eligibility requirements of section 222 of the Trade Act of 1974 was not met. The subject firm transferred all of the production from Logan, Ohio to other domestic facilities. Prior to the closure of the Metal Powder Products Company plant in Logan, Ohio, sales and production remained nearly constant.

The Department's denial of NAFTA-TAA for the same worker group was based on the finding that criteria (3) and (4) of the group eligibility requirements of paragraph (a)(1) of section 250 of the Trade Act of 1974, as amended, were not met. There was no shift in production of powder metal parts from the subject firm to Mexico or Canada, nor were there company imports of like or directly competitive products from Mexico or Canada.

The petitioner asserts that the subject firm took some of the key management staff to the Powder Metal Products plant in Mexico and production there has increased. Although not elaborated on in the initial investigation, the company acknowledged a recent acquisition of a plant in Mexico. That plant, however, serves the auto market in that country and none of the production was shifted from Logan, Ohio to Mexico, nor will any of the production be coming back to the United States.

The petitioner also provided a shipping label from Metal Powder Specialities in Logan, Ohio, to an address in Mexico. The shipping label to Mexico, by itself, does not present any new information which would warrant worker group certification.

Conclusion

After review of the application and investigative findings, I conclude that there has been no error or misinterpretation of the law or of the facts which would justify reconsideration of the Department of Labor's prior decisions. Accordingly, the application is denied.

Signed at Washington, DC this 26th day of December 2000.
Edward A. Tomchick,
Director, Division of Trade Adjustment Assistance.

[FR Doc. 01-948 Filed 1-10-01; 8:45 am]

BILLING CODE 4510-30-M